DEPARTMENT OF LABOR

Employment and Training Administration

[TA-W-51,332]

National Refractories and Minerals Corporation, Mexico, Missouri; Notice of Termination of Investigation

Pursuant to Section 221 of the Trade Act of 1974, as amended, an investigation was initiated on March 27, 2003 in response to a worker petition filed by a company official on behalf of workers at National Refractories and Minerals Corporation, Mexico, Missouri.

The petitioning worker group is included in an ongoing investigation for which a determination has not yet been issued. Consequently, further investigation in this case would serve no purpose, and the investigation has been terminated.

Signed at Washington, DC this 4th day of April, 2003.
Linda G. Poole,
Certifying Officer, Division of Trade Adjustment Assistance.

[FR Doc. 03-10149 Filed 4-23-03; 8:45 am]

BILLING CODE 4510-30-P